ENVIRONMENTAL PROTECTION AGENCY

[EPA-HQ-OPP-2017-0222; FRL-9974-61]

Labat-Anderson Incorporated; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Labat-Anderson Incorporated in accordance with the CBI regulations. Labat-Anderson Incorporated has been awarded multiple contracts to perform work for OPP, and access to this information will enable Labat-Anderson Incorporated to fulfill the obligations of the contract.

DATES: Labat-Anderson Incorporated will be given access to this information on or before March 26, 2018.

FOR FURTHER INFORMATION CONTACT: William Northern, Information Technology and Resources Management Division (7502P), Office of Pesticide Programs, Environmental Protection Agency, 1200 Pennsylvania Ave. NW, Washington, DC 20460-0001; telephone number: (703) 305-6478; email address: Northern.William@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-EPA-HQ-OPP-2017-0222, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

Under this contract number, the contractor will perform the following:

Under Contract No. DJJ13-C-2442, This contract will be used to provide professional litigation support products and services to the Department of Justice and other Federal agencies on an indefinite delivery, indefinite quantity task order basis. Individual task orders issued under this contract may support any Department of Justice organization or Federal agency on a local and/or nationwide basis. Services may be required anywhere in or outside of the United States and its territories. This contract will also be used to support case- or investigation-related administrative functions.

This contract involves no subcontractors.

OPP has determined that the contract described in this document involve work that is being conducted in connection with FIFRA, in that pesticide chemicals will be the subject of certain evaluations to be made under this contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), the contract with Labat-Anderson Incorporated, prohibits use of the information for any purpose not specified in these contract; prohibits disclosure of the information to a third party without prior written approval from the Agency; and requires that each official and employee of the contractor sign an agreement to protect the information from unauthorized release and to handle it in accordance with the FIFRA Information Security Manual. In addition, Labat-Anderson Incorporated is required to submit for EPA approval a security plan under which any CBI will be secured and protected against unauthorized release or compromise. No information will be provided to Labat-Anderson Incorporated until the requirements in this document have been fully satisfied. Records of information provided to Labat-Anderson Incorporated will be maintained by EPA Project Officers for these contract. All information supplied to Labat-Anderson Incorporated by EPA for use in connection with these contract will be returned to EPA when Labat-Anderson Incorporated has completed its work.

Authority: 7 U.S.C. 136 et seq.; 21 U.S.C. 301 et seq.

Dated: February 27, 2018.
Hamaad Syed,
Acting Director, Information Technology and Resources Management Division, Office of Pesticide Programs.

[FR Doc. 2018-05636 Filed 3-20-18; 8:45 am]

BILLING CODE 6560-50-P